AFRICAN DEVELOPMENT FOUNDATION

African Development Board of Directors Meeting; Sunshine Act

Time: Sunday, December 5, 2004—12 p.m. to 6 p.m., Monday, December 6, 2004—8:30 a.m. to 12 p.m.

Place: Cherry Blossom Room, Grand Hyatt Hotel, 1000 H Street, NW., Washington, DC 20001.

Date: December 5 and 6, 2004.

Status: Open Sessions: Sunday, 12 p.m. to 4 p.m. Monday, 8:30 a.m. to 12 p.m.

Closed Executive Session: Sunday, 4:30 p.m. to 6 p.m.

Agenda

Sunday, December 5, 2004:

12 p.m.—Chairman's Report.

12:30 p.m.—Strategic Planning Session.

4:30 p.m.—Executive Session.

6 p.m.—Adjournment for day.

Monday, December 6, 2004:

8:30 a.m.—Administrative and Management Session.

12 p.m.—Adjournment.

If you have any questions or comments, please direct them to Doris Martin, General Counsel, who may be reached at (202) 673-3916.

Nathaniel Fields,
President.

[FR Doc. 04-26658 Filed 11-30-04; 2:01 pm]

BILLING CODE 6116-01-P